DEPARTMENT OF EDUCATION

National Assessment Governing Board

Notice of Meeting

AGENCY: National Assessment Governing Board, Department of Education.

ACTION: Notice of open and closed meetings.

SUMMARY: This notice sets forth the agenda, time, and instructions to access or participate in the National Assessment Governing Board (hereafter referred to as Governing Board or Board) meetings scheduled for August 3-5, 2022 in Charleston, South Carolina. This notice provides information about the meetings to members of the public who may be interested in attending the meetings and/or providing written comments related to the work of the Governing Board. Notice of the meetings is required under Section 10(a)(2) of the Federal Advisory Committee Act (FACA).

ADDRESSES: Hyatt House, 560 King Street, Charleston, South Carolina, 29403.

DATES: August 3-5, 2022.

FOR FURTHER INFORMATION CONTACT: Munira Mwalimu, Executive Officer/Designated Federal Official for the Governing Board, 800 North Capitol Street NW, Suite 825, Washington, DC 20002, telephone: (202) 357-6906, fax: (202) 357-6945, email: Munira.Mwalimu@ed.gov.

SUPPLEMENTARY INFORMATION:

Statutory Authority and Function: The Governing Board is established under the National Assessment of Educational Progress Authorization Act, Title III of Public Law 107-279 (20 U.S.C. 9621). Information on the Governing Board and its work can be found at www.nagb.gov.

The Governing Board formulates policy for the National Assessment of Educational Progress (NAEP) administered by the National Center for Education Statistics (NCES). The Governing Board's responsibilities include:

“(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.”

Standing Committee Meetings

The Governing Board's standing committees will meet to conduct regularly scheduled work planned for the quarterly board meeting and any items undertaken by standing committees for consideration by the full Governing Board. (Please see committee meeting minutes for previous meetings, available at https://www.nagb.gov/governing-board/quarterly-board-meetings.html). Standing committee meeting agendas and meeting materials will be posted on the Governing Board's website, www.nagb.gov, no later than five business days prior to the meetings.

Standing Committee Meetings

Wednesday, August 3, 2022

Nominations Committee (Closed Session)

11:15 a.m.-12:15 p.m.

The Nominations Committee will meet in closed session on August 3, 2022 from 11:15 a.m. to 12:15 p.m. to discuss plans for reviewing applications and conducting ratings for board vacancies for the 2022-2023 term. These discussions pertain solely to internal personnel rules and practices of an agency and information of a personal nature where disclosure would constitute a clearly unwarranted invasion of personal privacy. As such, the discussions are protected by exemptions 2 and 6 of the Government Sunshine Act, 5 U.S.C. 552b(c).

Thursday, August 4, 2022

Executive Committee Meeting

8:30 a.m.-9:15 a.m. (Open Session)

9:15 a.m.-10:00 a.m. (Closed Session)

The Executive Committee will meet in closed session on August 4, 2022 from 9:15 a.m. to 10:00 a.m. to discuss the NAEP Budget and Assessment Schedule. These discussions with NCES may impact current and future NAEP contracts and budgets and must be kept confidential to maintain the integrity of the federal acquisition process. Public disclosure of this confidential information would significantly impede implementation of the NAEP assessment program if conducted in open session. Such matters are protected by exemption 9(B) of the Government Sunshine Act, 5 U.S.C. 552b(c).

Friday, August 5, 2022

Reporting and Dissemination Committee (R&D)

8:30 a.m.-10:30 a.m. (Open Session)

Friday, August 5, 2022

Assessment Development Committee (ADC)

8:30 a.m.-9:00 a.m. (Open Session)

9:00 a.m.-10:30 a.m. (Closed Session)

The Assessment Development Committee will meet in closed session on August 4, 2022 from 9:00 a.m. to 10:30 a.m. to review secure NAEP assessment items. These items have not been released to the public. Public disclosure of this confidential information would significantly impede implementation of the NAEP assessment program if conducted in open session. Such matters are protected by exemption 9(B) of the Government Sunshine Act, 5 U.S.C. 552b(c).

Friday, August 5, 2022

Committee on Standards, Design and Methodology

8:30 a.m.-10:30 a.m. (Open Session)

Quarterly Governing Board Meeting

The plenary sessions of the Governing Board's August 2022 quarterly meeting will be held on the following dates and times:

Thursday, August 4, 2022: Open Meeting: 10:15 a.m.-12:00 p.m.; Closed Meeting 12:15 p.m.-1:45 p.m.; Open Meeting: 2:00 p.m.-4:45 p.m.

Friday, August 5, 2022: Open Meeting: 10:45 a.m.-11:45 a.m.; Closed Meeting: 12:00 p.m.-2:00 p.m.; Open Meeting: 2:10 p.m.-3:45 p.m.

August 4, 2022 Meeting

On Thursday, August 4, 2022, the plenary session of the Governing Board meeting will meet in open session from 10:15 a.m. to 12:10 p.m. The meeting will start with Beverly Perdue, Chair of the Governing Board, welcoming members and asking for a motion to approve the August 4-5, 2022 quarterly Governing Board meeting agenda as well as the minutes from the May 12-13, 2022 quarterly Governing Board meeting. Thereafter, from 10:20 a.m. to 12:00 p.m., Charleston Mayor, John Tecklenberg, will welcome the Board, which will precede a panel discussion from South Carolina educators and legislators on the state's education standards and assessment systems.

From 12:15 p.m. to 1:45 p.m., the Board will convene in closed session to receive a briefing on the NAEP Long Term Trend results. This briefing must be held in closed session because results are not yet public. Public disclosure of secure results would impede implementation of the NAEP assessment program if conducted in open session. Such matters are protected by exemption 9(B) of the Government in the Sunshine Act, 5 U.S.C. 552b(c). The closed session will be followed by a 15-minute break.

The Board will reconvene in open session from 2:00 p.m. to 4:45 p.m. Lesley Muldoon, Executive Director of the Governing Board, will update members on ongoing work and Peggy Carr, Commissioner, NCES, will provide an update on NAEP activities. From 2:30 p.m. to 4:00 p.m., members will discuss out-of-school learning opportunities followed by general member discussion from 4:00 p.m. to 4:30 p.m. From 4:30 p.m. to 4:45 p.m., members will hear previews of standing committee meetings that will occur on Friday, August 5, 2022. The August 4, 2022 session of the Board meeting will adjourn at 4:45 p.m.

Friday, August 5, 2022

The August 5, 2022 plenary session will begin with standing committee meetings from 8:30 a.m. to 10:30 a.m. followed by a 15-minute break. From 10:45 a.m. to 11:45 a.m., the Governing Board will hear from leaders of districts participating in the Trial Urban District Assessments (TUDA). Following a 15-minute break, the Board will meet in closed session from 12:00 p.m. to 2:00 p.m. to receive a briefing from NCES on the NAEP budget, followed by small group meetings and report out to the full Board. These sessions must be closed to the public because the budget discussions pertain to current and future NAEP contracts and must be kept confidential to maintain the integrity of the federal acquisition and budget process. Public disclosure of this confidential information would impede implementation of the NAEP assessment program if conducted in open session. Such matters are protected by exemption 9(B) of the Government in the Sunshine Act, 5 U.S.C. 552b(c).

The Board will reconvene in open session from 2:10 p.m. 2:45 p.m. to discuss and act on COSDAM recommendations related to the NAEP achievement level descriptor study in math and reading. From 2:45 p.m. to 3:00 p.m., the Board will discuss and act on the election of the Vice Chair, and approval of the NAEP 2022 Release Plans. From 3:00 p.m. to 3:30 p.m., farewell remarks will be made by departing member Tonya Matthews and any other member whose term(s) of service concludes on September 30, 2022. The August 5, 2022 session of the Governing Board meeting will adjourn at 3:30 p.m.

The quarterly board meeting and standing committee meeting agendas, along with the meeting materials, will be posted on the Governing Board's website at www.nagb.gov no later than five working days prior to each meeting.

Instructions for Participating in the Meetings

Registration: Members of the public may attend in-person to all open plenary sessions of the Board's meetings. A link to register for virtual attendance for the open sessions and instructions for how to register will be posted on the Governing Board's website at www.nagb.gov no later than 5 business days prior to the meeting. Registration is required to join the meeting virtually.

Public Comment: Written comments related to the work of the Governing Board and its committees at the meeting may be submitted electronically or in hard copy to the attention of the Executive Officer/Designated Federal Official (DFO) via email at Munira.Mwalimu@ed.gov no later than 10 business days prior to the meeting. Written comments should be directed to DFO as they relate to committee and Board meeting work referencing the relevant agenda item.

Access to Records of the Meeting: Pursuant to the FACA requirements, the public may inspect the meeting materials at www.nagb.gov, which will be made available no later than five business days prior to each meeting. The official verbatim transcripts of the open meeting sessions will be available for public inspection no later than 30 calendar days following each meeting and will be posted on the Governing Board's website. Requests for the verbatim transcriptions may be made via email to the DFO noted above.

Reasonable Accommodations: The meeting location is accessible to individuals with disabilities. If you will need an auxiliary aid or service to participate in the meeting (e.g., interpreting service, assistive listening device, or materials in an alternate format), notify the DFO listed in this notice no later than ten working days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III, 301—National Assessment of Educational Progress Authorization Act (20 U.S.C. 9621).

Lesley Muldoon,
Executive Director, National Assessment Governing Board (NAGB), U.S. Department of Education.

[FR Doc. 2022-15647 Filed 7-21-22; 8:45 am]

BILLING CODE 4000-01-P